DEPARTMENT OF VETERANS AFFAIRS

[OMB Control No. 2900-0465]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before December 15, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0465.”

Send comments and recommendations concerning any aspect of the information collection to VA's OMB Desk Officer, OMB Human Resources and Housing Branch, New Executive Office Building, Room 10235, Washington, DC 20503 (202) 395-7316. Please refer to “OMB Control No. 2900-0465” in any correspondence.

SUPPLEMENTARY INFORMATION:

Title: Student Verification of Enrollment, VA Form 22-8979.

Type of Review: Extension of a currently approved collection.

Abstract: The form contains a student's certification of actual attendance and verification of that student's continued enrollment in courses leading to a standard college degree or in non-college degree programs. VA uses the information to determine the student's continued entitlement to benefits. The student is required to submit the verification on a monthly basis to allow for a frequent, periodic release of payment.

An agency may not conduct or sponsor, and a person is not required to respond to a collection of information unless it displays a currently valid OMB control number. The Federal Register Notice with a 60-day comment period soliciting comments on this collection of information was published on August 20, 2003, at page 50221.

Affected Public: Individuals or households.

Estimated Annual Burden: 45,575 hours.

Estimated Average Burden Per Respondent: 1-1/3 minutes.

Frequency of Response: On occasion.

Estimated Number of Respondents: 333,333.

Estimated Number of Responses: 2,000,000.

Dated: November 4, 2003.
By direction of the Secretary.
Jacqueline Parks,
IT Specialist, Records Management Service.

[FR Doc. 03-28366 Filed 11-12-03; 8:45 am]

BILLING CODE 8320-01-P